DEPARTMENT OF HEALTH AND HUMAN SERVICES

Administration for Children and Families

Submission for OMB Review; Comment Request

Title: Court Improvement Program.

OMB No.: 0970-0245.

Description: The Court Improvement Program provides grants to State court systems to conduct assessments of their foster care and adoption laws and judicial processes and to develop and implement a plan for system improvement. ACF proposes to collect information from the States about this program (applications, program reports) by way of a Program Instruction, which (1) describes the requirements for States under the reauthorization of the Court Improvement Program; (2) outlines the programmatic and fiscal provisions and reporting requirements of the program; (3) specifies the application submittal and approval procedures for the program for Fiscal Years 2003 through 2006; and (4) identifies technical resources for use by State courts during the course of the program. This Program Instruction contains information collection requirements that are found in Pub. L. 103-66, as amended by Pub. L. 105-89 and Pub. L. 107-133; and pursuant to receiving a grant award. The agency will use the information received to ensure compliance with the statute and provide training and technical assistance to the grantees.

Respondents: State Courts.

Annual Burden Estimates
Instrument | Number of respondents | Number of responses per respondent | Average burden hours per response | Total burden hours
Application | 52 | 1 | 40 | 2,080
Annual program report | 52 | 1 | 36 | 1,872

Estimated Total Annual Burden Hours: 3,952.

Additional Information: Copies of the proposed collection may be obtained by writing to the Administration for Children and Families, Office of Administration, Office of Information Services, 370 L'Enfant Promenade, SW., Washington, DC 20447, Attn: ACF Reports Clearance Officer. All requests should be identified by the title of the information collection. E-mail address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Attn: Desk Officer for ACF, E-mail address: Katherine_T._Astrich@omb.eop.gov.

Dated: May 11, 2006
Robert Sargis,
Reports Clearance Officer.

[FR Doc. 06-4576 Filed 5-15-06; 8:45 am]

BILLING CODE 4184-01-M